NUCLEAR REGULATORY COMMISSION

[NRC-2018-0155]

Instructions for Completing NRC's Uniform Low-Level Radioactive Waste Manifest

AGENCY: Nuclear Regulatory Commission.

ACTION: Draft NUREG; request for comment.

SUMMARY: The U.S. Nuclear Regulatory Commission (NRC) is issuing for public comment a draft NUREG, NUREG/BR-0204, Rev. 3, “Instructions for Completing NRC's Uniform Low-Level Radioactive Waste Manifest.” This document provides instructions to prepare NRC Form 540 (Uniform Low-Level Radioactive Waste Manifest (Shipping Paper)), NRC Form 541 (Uniform Low-Level Radioactive Waste Manifest (Container and Waste Description)), and NRC Form 542 (Uniform Low-Level Radioactive Waste Manifest (Manifest Index and Regional Compact Tabulation)). NRC Forms 540 and 541 must be prepared for low-level radioactive waste intended for ultimate disposal at a licensed low-level radioactive waste land disposal facility. NRC Form 542 is required only if processors and collectors of low-level radioactive waste are shipping low-level radioactive waste attributed to others for disposal at a licensed low-level radioactive waste land disposal facility.

DATES: Submit comments by December 31, 2018. Comments received after this date will be considered if it is practical to do so, but the Commission is able to ensure consideration only for comments received before this date.

ADDRESSES: You may submit comments by any of the following methods:

• Federal Rulemaking Website: Go to http://www.regulations.gov and search for Docket ID NRC-2018-0155. Address questions about dockets IDs in Regulations.gov to Jennifer Borges; telephone: 301-287-9127; email: Jennifer.Borges@nrc.gov. For technical questions, contact the individuals listed in the FOR FURTHER INFORMATION CONTACT section of this document.

• Mail comments to: May Ma, Office of Administration, Mail Stop: TWFN-7-A60M, U.S. Nuclear Regulatory Commission, Washington, DC 20555-0001.

For additional direction on obtaining information and submitting comments, see “Obtaining Information and Submitting Comments” in the SUPPLEMENTARY INFORMATION section of this document.

FOR FURTHER INFORMATION CONTACT: Lloyd Desotell, Office of Nuclear Material Safety and Safeguards, telephone: 301-415-5969, email: Lloyd.Desotell@nrc.gov; or Karen Pinkston, Office of Nuclear Material Safety and Safeguards, telephone: 301-415-3650, email: Karen.Pinkston@nrc.gov; Both are staff of the U.S. Nuclear Regulatory Commission, Washington, DC 20555-0001.

SUPPLEMENTARY INFORMATION:

I. Obtaining Information and Submitting Comments

A. Obtaining Information

Please refer to Docket ID NRC-2018-0155 when contacting the NRC about the availability of information for this action. You may obtain publicly-available information related to this action by any of the following methods:

• Federal Rulemaking website: Go to https://www.regulations.gov and search for Docket ID NRC-2018-0155.

• NRC's Agencywide Documents Access and Management System (ADAMS): You may obtain publicly-available documents online in the ADAMS Public Documents collection at http://www.nrc.gov/reading-rm/adams.html. To begin the search, select “Begin Web-based ADAMS Search.” For problems with ADAMS, please contact the NRC's Public Document Room (PDR) reference staff at 1-800-397-4209, 301-415-4737, or by email to pdr.resource@nrc.gov. NUREG/BR-0204, Rev. 3, “Instructions for Completing NRC's Uniform Low-Level Radioactive Waste Manifest” is available in ADAMS under Accession No. ML18261A002. The NRC has prepared a draft regulatory analysis for this proposed guidance. The analysis examines the costs and benefits of the alternatives considered by the NRC. The NRC requests public comment on the draft regulatory analysis. The draft regulatory analysis can be found under ADAMS Accession No. ML18275A039. Comments on the draft analysis may be submitted to the NRC as indicated under Section I.B, “Submitting Comments.”

• NRC's PDR: You may examine and purchase copies of public documents at the NRC's PDR, Room O1-F21, One White Flint North, 11555 Rockville Pike, Rockville, Maryland 20852.

B. Submitting Comments

Please include Docket ID NRC-2018-0155 in your comment submission.

The NRC cautions you not to include identifying or contact information that you do not want to be publicly disclosed in your comment submission. The NRC will post all comment submissions at http://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Discussion

NUREG/BR-0204, Rev. 3, “Instructions for Completing the NRC's Uniform Low-Level Radioactive Waste Manifest,” provides guidance on completing NRC Forms 540, 541, and 542 (i.e., the NRC's Uniform Low-Level Waste Manifest). The last revision to this NUREG/BR, Rev. 2, was published in July 1998. In SECY-13-0001, “Staff Recommendations for Improving the Integration of the Ongoing 10 CFR part 61 Rulemaking Initiatives” (ADAMS Accession No. ML12199A412), staff noted that stakeholders suggested that NUREG/BR-0204 needs to be rewritten and that assumptions concerning the reporting of certain hard-to-detect isotopes (i.e., H-3, C-14, Tc-99 and I-129) on the Uniform Waste Manifest should be revisited. To address these stakeholder comments, the NRC staff held two public workshops in March and June of 2013 to collect comments specifically on NUREG/BR-0204. Comments received on the NUREG/BR-0204, Rev. 2, as a result of these workshops can be found on the Federal Rulemaking website (www.regulations.gov) under Docket ID NRC-2013-0035. Many of the comments received focused on the reporting of the hard-to-detect isotopes (i.e., H-3, C-14, Tc-99 and I-129) on the Uniform Low-Level Radioactive Waste Manifest.

In 2013, the NRC staff also identified additional changes that may be needed for the Uniform Low-Level Radioactive Waste Manifest forms and associated guidance in NUREG/BR-0204 as a part of the ongoing part 61 of title 10 of the Code of Federal Register (10 CFR) rulemaking (Docket ID NRC-2009-0257). The 10 CFR part 61 rulemaking, however, had not progressed far enough for the specific changes to the Uniform Low-Level Radioactive Waste Manifest forms and NUREG/BR-0204 to be known with certainty.

Therefore, staff developed Regulatory Information Summary (RIS-15-002) to address stakeholder concerns regarding the reporting of hard-to-detect radionuclides on the Uniform Low-Level Radioactive Waste Manifest. This RIS, titled “Reporting of H-3, C-14, Tc-99, and I-129 on the Uniform Waste Manifest” (ADAMS Accession No. ML14272A217), informs addressees of the option to use indirect methods to determine the activity of H-3, C-14, Tc-99, and I-129 reported on the Uniform Low-Level Radioactive Waste Manifest when the radionuclide is present at a concentration less than the lower limit of detection (LLD). The request for comments on draft RIS was published on in the Federal Register on June 2, 2014 (79 FR 31348), and the final RIS was published on February 18, 2015.

In September of 2017, the NRC received direction from the Commission on the part 61 rulemaking in SRM-SECY-16-0106 (ADAMS Accession No. ML17251B147), and the NRC staff determined that there was enough certainty in the portions of the part 61 rulemaking that affected the Uniform Low-Level Radioactive Waste Manifest to issue a draft of the manifest forms and the instructions in NUREG/BR-0204 for comment. The NRC staff considered the comments received in 2013 when revising these documents. Major areas of revision include: Updated references to Department of Transportation (DOT) regulations to reflect the current DOT regulations, additional discussion on the reporting of inventories based on LLD values, the potential use of indirect methods to determine these inventories, including the use of indirect methods in waste classification, clarification of the certification statement on Form 540, and overall improvements to the clarity of NUREG/BR-0204.

The NRC is requesting public comments on the draft revised Uniform Low-Level Radioactive Waste Manifest (NRC Forms 540, 541, and 542) and on the draft Rev. 3 to NUREG/BR-0204, and on the draft regulatory analysis. The NRC staff will consider any comments received in preparing the final version of Rev. 3 and the revised NRC Forms 540, 541, and 542. In responding, commenters are encouraged to provide specific suggestions and the basis for suggestions offered. Specifically, the NRC staff requests comment on the following questions:

1. Do the proposed revised Uniform Low-Level Radioactive Waste Manifest Forms 540, 541, and 542 request all of the information that is needed for the transport and disposal of low-level radioactive waste to be safely managed? Is there any additional information that should be collected?

2. Is any additional guidance or clarification needed in the instructions for filling out the Uniform Low-Level Radioactive Waste Manifest Forms in NUREG/BR-0204?

3. NRC Form 541 has lists of container description codes (note 1), waste descriptor codes (note 2), and sorption and solidification media (note 3) that have not been updated recently. Are there any items that should be added to these lists based on new technology or changes to industry practices? Are there any items on these lists that should be deleted because they are no longer in use or for any other reason? Should the items in the lists be combined in any way?

Dated at Rockville, Maryland, this 25th day of October, 2018.
For the Nuclear Regulatory Commission.
Andrea L. Kock,
Deputy Director, Division of Decommissioning, Uranium Recovery, and Waste Programs, Office of Nuclear Material Safety and Safeguards.

[FR Doc. 2018-23694 Filed 10-29-18; 8:45 am]

BILLING CODE 7590-01-P